DEPARTMENT OF ENERGY

Federal Energy Regulatory Commission

[Docket Nos. CP01-384-000 and CP01-387-000]

Islander East Pipeline Company, L.L.C., Algonquin Gas Transmission Company; Notice of Site Visit and Summary of Scoping Issues; Notice of Intent To Prepare an Environmental Impact Statement

October 4, 2001.

The Federal Energy Regulatory Commission (FERC) issued a Notice of Intent to Prepare an Environmental Assessment for the Islander East Pipeline Project and Request for Comments on Environmental Issues (NOI) on July 3, 2001, stating that we ¹ would prepare either an environmental assessment (EA) or environmental impact statement (EIS) for the proposed project. The Islander East Pipeline Project would involve construction of facilities by Islander East Pipeline Company, L.L.C. (Islander East) and related facilities constructed by Algonquin Gas Transmission Company (Algonquin) in New Haven County, Connecticut and Suffolk County, New York.² Islander East's facilities would consist of about 50.4 miles of 24-inch-diameter pipeline and lateral, including 22.6 miles offshore in Long Island Sound, and three new meter stations. Algonquin would retest and uprate about 27.4 miles of its existing pipelines from Cheshire to North Haven, Connecticut, and construct a new compressor station.

¹ “We”, “us”, and “our” refer to the environmental staff of the Office of Energy Projects (OEP).

² The Islander East and Algonquin applications were filed with the Commission under Section 7 of the Natural Gas Act and Part 157 of the Commission's regulations.

In the NOI, we solicited public comments to identify significant environmental issues that would be used in deciding whether an EA or EIS would be prepared. Based on the issues raised, we have decided to proceed with preparation of an EIS for this project.

Summary of Issues Identified

We have received over 70 letters or interventions from concerned landowners, state and local agencies, townships, and environmental groups. The issues raised are summarized into the following general categories:

Need for Project and Location

What is the need for the project and how would it benefit their areas (especially in Connecticut)? Prefer various other alternatives, including ones away from their communities; an alternative Long Island Sound crossing location; following more existing pipelines or roads; and use of existing capacity.

Landowner Issues

Proximity to homes—property devaluation, safety, noise from construction activities and the directional drill; septic system impacts from poor drainage; drinking water well disruption or contamination; blasting impacts to the granite/bedrock and potential for foundation cracking; disruption near a school; previous damage from Algonquin pipeline installation; and unauthorized all terrain vehicle (ATV) usage along the pipeline right-of-way (ROW).

Tidal and Inland Ecological Impacts

Potential for impacts to tidal and inland wetlands and wildlife preserves including the Central Pine Barrens in New York and compatibility with the Long Island Pine Barrens Protection Act; impacts to surface water and groundwater drainage; invasive species introduction; wildlife impacts; soil erosion/sedimentation impacts from tree and upland buffer removal; impacts to threatened and endangered species/desire for species surveys; impacts to the Carmans and Peconic Rivers; Islander East's adherence to local environmental regulations; impacts from pesticides; and impacts to the Thimble Islands.

Human and Socioeconomic Impacts

Tourism and recreational impacts to local towns; economic and social impacts; proximity to Branford Steam Railroad (new open corridor and safety concerns); procedures for handling a gas emergency (concern that some volunteer fire departments could not handle a gas emergency); impacts to public lands preserved for open spaces or beaches in the affected towns; future zoning/development issues; noise impacts from screening tree removal along Interstate 95; and scenic highways/visual impacts.

Long Island Sound Ecological Impacts

Impacts to the ecosystem of the Long Island Sound including impacts to shellfish, lobsters, and commercial fishing; directional drilling impacts on shellfish beds in the event of a frac-out or spill; spawning and nesting windows; impacts from anchoring and cable sweep from barges; general water quality degradation; and a preference for complete burial of the underwater pipeline.

Various Concerns

Various other issues including assurances that the company will do the mitigation it has stated; that additional industrialization in the area may occur with a new or expanded corridor; that two pipeline projects that could cross Long Island Sound (Iroquois and Tennessee—to be filed) be evaluated at the same time and be considered as alternatives and cumulative impacts; cumulative impacts from underwater cable installation; All Saints Cemetery and cultural resources impacts; and air quality impacts.

Agenda for Site Visit

We will conduct a site visit in the project area during the week of October 15, 2001. We will tour the onshore portions of the pipeline route and alternatives by automobile and on foot, as appropriate. All interested parties may attend but must provide their own transportation. Any additional comments received that did not arise during the scoping period which ended on August 3, 2001 and during the site visit will be addressed in the EIS.

Tuesday, October 16, 2001: Meet at 8:00 am at the Grumman Memorial Park (main parking lot), near the intersection of State Routes 25 and 25A, near Calverton, New York. After a question and answer session, we will drive to the southern terminus of the proposed pipeline ROW and head north along the ROW, through the Town of Ridge, along the Calverton Lateral, and ending along the shore of the Long Island Sound between the Towns of Shoreham and Wading River.

Thursday, October 18, 2001: Meet at 8 am at the commuter parking lot at the end of the Branford Connector, at exit 53 off of Interstate 95 in Branford, Connecticut. After a question and answer session, we will drive the ROW from Branford south to Long Island Sound, head north along the proposed pipeline ROW, and end in the Town of North Haven. For additional information on the site visit contact the Commission's Office of External Affairs at (202) 208-1088.

David P. Boergers,
Secretary.

[FR Doc. 01-25490 Filed 10-10-01; 8:45 am]

BILLING CODE 6717-01-P